DEPARTMENT OF AGRICULTURE

Rural Telephone Bank

Amendment to Bylaws

AGENCY: Rural Telephone Bank, USDA.

ACTION: Notice; correction.

Correction

In notice document 01-23502, beginning on page 48416 in the issue of Thursday, September 20, 2001, make the following correction: On page 48417, in the second column, the date the notice was approved should read “Dated: September 13, 2001”.

Dated: October 30, 2001.
Blaine D. Stockton,
Acting Governor, Rural Telephone Bank.

[FR Doc. 01-27715 Filed 11-2-01; 8:45 am]

BILLING CODE 3410-15-P